ENVIRONMENTAL PROTECTION AGENCY

[FRL-7563-7]

Proposed Issuance of General NPDES Permits for Small Publically Owned Treatment Works (POTWs) and Other Small Treatment Works Treating Domestic Sewage in Alaska (NPDES Permits Nos. AKG-57-0000, and AKG-57-1000)

AGENCY: Environmental Protection Agency, Region 10.

ACTION: Notice of proposed issuance of two general NPDES permits.

SUMMARY: The Director, Office of Water, EPA Region 10, proposes to issue general National Pollutant Discharge Elimination System (NPDES) permits for small POTWs and other small treatment works treating domestic sewage in Alaska pursuant to the provisions of the Clean Water Act (CWA) 33 U.S.C. 1251 et seq. One general permit is applicable to those facilities discharging to marine waters (NPDES Permit Number AKG-57-1000) while the second general permit is applicable to facilities discharging to fresh waters (Number AKG-57-0000).

When issued, the proposed general permits will establish effluent limitations, standards, prohibitions and other conditions on discharges from covered facilities. These conditions are based on existing national effluent guidelines (40 CFR part 133 Secondary Treatment Regulations), and the State of Alaska's Water Quality Standards (18 AAC 70). The general permits contain conditions applicable to three categories of treatment: Treatment works where a mechanically aerated waste stabilization pond (aerated lagoon) is used as the principal process; treatment works where a passive waste stabilization pond (non-aerated lagoon) is used as the principal process; and other treatment works treating domestic sewage. The fact sheet describes the basis for the conditions and requirements of the proposed general permits.

The proposed permits will authorize discharge to waters of the United States in and contiguous to the State of Alaska. Sewage treatment plants meeting any of the following conditions will be excluded from coverage under the general permits: The design flow or actual discharge flow exceeds 1.0 million gallons per day; a total maximum daily load (TMDL) analysis is approved for the receiving water and includes waste load allocations for the facility; the receiving water is listed as impaired (i.e. 303(d) listed) for failure to meet a water quality standard and the facility discharges a pollutant that contributes to the impairment; and/or the facility receives a significant contribution from a non-domestic industrial user(s). Dischargers meeting any of the above criteria are required to apply for and obtain an individual NPDES permit.

DATES: Interested persons may submit comments on the proposed issuance of the general permits to EPA, Region 10 at the addresses below. Comments must be postmarked by November 10, 2003.

ADDRESSES: Comments on the proposed issuance of the general permits should be sent to the attention of the Director, Office of Water, 1200 Sixth Avenue OW-130, Seattle, Washington 98101. Comments may also be submitted electronically to lidgard.michael@epa.gov.

FOR FURTHER INFORMATION CONTACT: Copies of the proposed general permits and fact sheet are available upon request. Requests may be made to Audrey Washington at (206) 553-0523 or to Mike Lidgard at (206) 553-1755. Requests may also be electronically mailed to: washington.audrey@epa.gov or lidgard.michael@epa.gov.

The proposed general permits and fact sheet may also be found on the EPA Region 10 Web site at http://www.epa.gov/r10earth/water.htm, click on Water Quality, then NPDES permits under Programs and draft permits under EPA Region 10 Information.

SUPPLEMENTARY INFORMATION: Executive Order 12866: The Office of Management and Budget exempted this action from the review requirements of Executive Order 12866 pursuant to section 6 of that order.

Regulatory Flexibility Act (RFA): Under the RFA, 5 U.S.C. 601 et seq., a federal agency must prepare an initial regulatory flexibility analysis “for any proposed rule” for which the agency “is required by section 553 of (the Administrative Procedure Act (APA)), or any other law, to publish general notice of proposed rulemaking.” The RFA exempts from this requirement any rule that the issuing agency certifies “will not, if promulgated, have a significant economic impact on a substantial number of small entities.” EPA has concluded that NPDES general permits are permits under the APA and thus not subject to APA rulemaking requirements or the RFA.

Dated: September 10, 2003.
Robert R. Robichaud,
Acting Associate Director, Office of Water, Region 10, U.S. Environmental Protection Agency.

[FR Doc. 03-24407 Filed 9-25-03; 8:45 am]

BILLING CODE 6560-50-P